DEPARTMENT OF COMMERCE

Foreign-Trade Zones Board

[B-20-2018]

Foreign-Trade Zone 158—Vicksburg, Mississippi; Application for Production Authority; MTD Consumer Group Inc.; Opening of Comment Period on Submission Containing New Evidence

The Foreign-Trade Zones (FTZ) Board is inviting public comment on a submission containing new evidence pertaining to the application on behalf of MTD Consumer Group Inc. (MTD) requesting production authority within FTZ 158 in Verona, Mississippi.

On June 28, 2019, MTD made a submission to the FTZ Board that included new evidence for the record. Public comment is invited on MTD's submission through August 8, 2019. Rebuttal comments may be submitted through the subsequent 15-day period, until August 23, 2019.

Public comment is invited from interested parties. Submissions shall be addressed to the Board's Executive Secretary and sent to: ftz@trade.gov. A copy of MTD's submission will be available for public inspection in the “Reading Room” section of the FTZ Board's website, which is accessible via www.trade.gov/ftz.

For further information, contact Elizabeth Whiteman at Elizabeth .Whiteman@trade.gov or (202) 482-0473.

Dated: July 2, 2019.
Andrew McGilvray,
Executive Secretary.

[FR Doc. 2019-14550 Filed 7-8-19; 8:45 am]

BILLING CODE 3510-DS-P